NORTHEAST DAIRY COMPACT COMMISSION

Notice of Meeting

AGENCY: Northeast Dairy Compact Commission.

ACTION: Notice of meeting.

SUMMARY: The Compact Commission will hold its regular monthly meeting to consider matters relating to administration and enforcement of the price regulation, including the reports and recommendations of the Commission's standing Committees.

DATES: The meeting will begin at 10 a.m. on Wednesday, March 14, 2001.

ADDRESSES: The meeting will be held at the Holiday Inn, 700 Elm Street, Manchester, NH.

FOR FURTHER INFORMATION CONTACT: Daniel Smith, Executive Director, Northeast Dairy Compact Commission, 64 Main Street, Room 21, Montpelier, VT 05602. Telephone (802) 229-1941.

Authority: 7 U.S.C. 7256

Dated: February 27, 2001.
Daniel Smith,
Executive Director.

[FR Doc. 01-5272 Filed 3-2-01; 8:45 am]

BILLING CODE 1650-01-P